ENVIRONMENTAL PROTECTION AGENCY

[FRL-8697-4; Docket ID No. EPA-HQ-ORD-2008-0543]

The Development of Land-Use Scenarios Consistent With Climate Change Emissions Storylines

AGENCY: Environmental Protection Agency (EPA).

ACTION: Notice of public comment period.

SUMMARY: EPA is announcing a 30-day public comment period for the draft document entitled, “The Development of Land-Use Scenarios Consistent with Climate Change Emissions Storylines” (EPA/600/R-08/076). The document was prepared by the National Center for Environmental Assessment within EPA's Office of Research and Development.

EPA is releasing this draft document solely for the purpose of pre-dissemination peer review under applicable information-quality guidelines. This document has not been formally disseminated by EPA. It does not represent, and should not be construed to represent, any Agency policy or determination. EPA will consider any public comments submitted in accordance with this notice when revising the document.

DATES: The 30-day public comment period begins July 25, 2008, and ends August 25, 2008. Technical comments should be in writing and must be received by EPA by August 25, 2008.

ADDRESSES: The draft is available primarily via the Internet on the National Center for Environmental Assessment's home page under the Recent Additions and the Data and Publications menus at http://www.epa.gov/ncea. A limited number of paper copies are available from the Information Management Team, NCEA; telephone: 703-347-8561; facsimile: 703-347-8691. If you are requesting a paper copy, please provide your name, your mailing address, and the document title, “The Development of Land-Use Scenarios Consistent with Climate Change Emissions Storylines.”

Comments may be submitted electronically via http://www.regulations.gov, by mail, by facsimile, or by hand delivery/courier. Please follow the detailed instructions provided in the “Supplementary Information” section of this notice.

FOR FURTHER INFORMATION CONTACT: For information on the public comment period, contact the Office of Environmental Information Docket; telephone: 202-566-1752; facsimile: 202-566-1753; or e-mail: ORD.Docket@epa.gov.

For technical information, contact Britta Bierwagen, NCEA; telephone: 703-347-8613; facsimile: 703-347-8694; or e-mail: bierwagen.britta@epa.gov.

SUPPLEMENTARY INFORMATION:

I. Information About the Project/Document

This draft report describes the modeling methodology used to create scenarios of housing density changes across the contiguous United States for each decade from the year 2000 to 2100 that are consistent with socio-economic storylines used by climate change modelers. The method consists of adapting the four main storylines used in the reports by the Intergovernmental Panel on Climate Change (IPCC) to the United States, then running a demographic model for the United States at the county level that is consistent with these storylines, and distributing new housing at a 100-meter scale using a spatial allocation model that translates the population projections to housing.

The scenarios not only reflect different assumptions about fertility rates and domestic and international migration, but also assumptions about the allocation of housing on the landscape from more compact to less compact forms of growth. The draft report also describes the methods used to convert housing density into impervious surface cover—an output that will facilitate future assessments of changes in water quality, aquatic ecosystems, air quality, and human health. The draft report concludes with recommendations for future modifications to the model to integrate climate change variables and for further analyses using the present results.

II. How to Submit Technical Comments to the Docket at http://www.regulations.gov

Submit your comments, identified by Docket ID No. EPA-HQ-ORD 2008-0543, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2008-0543. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: July 16, 2008.
Rebecca Clark,
Deputy Director, National Center for Environmental Assessment.

[FR Doc. E8-17086 Filed 7-24-08; 8:45 am]

BILLING CODE 6560-50-P